DEPARTMENT OF COMMERCE

National Oceanic and Atmospheric Administration

[RTID 0648-XC055]

Endangered and Threatened Species; Take of Anadromous Fish

AGENCY: National Marine Fisheries Service (NMFS), National Oceanic and Atmospheric Administration (NOAA), Department of Commerce.

ACTION: NMFS is notifying the public of the issuance of a permit for implementation of the Rescue and Rearing Management Plan (RRMP) for Petaluma River Steelhead.

SUMMARY: Notice is hereby given that NMFS has issued a permit pursuant to Section 10 of the Endangered Species Act (ESA) for the implementation of the RRMP by the United Anglers of Casa Grande (UACG).

FOR FURTHER INFORMATION CONTACT: Jodi Charrier, Santa Rosa, California (ph.: 707-575-6069; email: jodi.charrier@noaa.gov).

SUPPLEMENTARY INFORMATION:

ESA-Listed Species Covered in This Notice

• Steelhead (Oncorhynchus mykiss)—Central California Coast (CCC) distinct population segment (DPS)

Discussion of the Biological Analysis Underlying Permit Issuance

NMFS has issued a permit for UACG to implement the RRMP, which is intended to increase adult CCC steelhead DPS abundance in the Petaluma River Watershed. Fish rearing will occur at the UACG Hatchery and will be run by Casa Grande High School located in Petaluma, California. The RRMP has two main components: (1) Rescue and translocate wild steelhead from drying stream reaches; and (2) captively rear wild fry at the UACG Hatchery to be released as smolts into natal tributaries. There is no spawning of steelhead at the Hatchery. These management actions should result in higher survival rates; thereby increasing the abundance of the population over time.

The program uses natural-origin fish, and the permit for this program is issued under ESA section 10(a)(1)(A). Description of the programs was provided in the RRMP submitted by the UACG. NMFS has analyzed the effects of the RRMP on CCC DPS steelhead listed under the ESA, and has concluded that the program is not likely to jeopardize the continued existence of CCC steelhead or destroy or adversely modify its designated critical habitat. Authorization of the activities is contingent upon implementation of all of the monitoring, evaluation, reporting tasks or assignments, and enforcement activities included in the permit.

Summary of Comments Received on the RRMP

NMFS made the permit application available for public comment on February 16, 2022 (87 FR 8787) for 30 days, as required by the ESA. No comments were received.

Dated: May 26, 2022.
Angela Somma,
Chief, Endangered Species Division, Office of Protected Resources, National Marine Fisheries Service.

[FR Doc. 2022-11754 Filed 5-31-22; 8:45 am]

BILLING CODE 3510-22-P